DEPARTMENT OF THE INTERIOR

National Park Service

[NPS-WASO-NRNHL-15112; PPWOCRADI0, PCU00RP14.R50000]

National Register of Historic Places; Notification of Pending Nominations and Related Actions

Nominations for the following properties being considered for listing or related actions in the National Register were received by the National Park Service before February 22, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by April 7, 2014. Before including your address, phone number, email address, or other personal identifying information in your comment, you should be aware that your entire comment—including your personal identifying information—may be made publicly available at any time. While you can ask us in your comment to withhold your personal identifying information from public review, we cannot guarantee that we will be able to do so.

Dated: February 25, 2014.
J. Paul Loether,
Chief, National Register of Historic Places/National Historic Landmarks Program.

CALIFORNIA

Sacramento County

New Helvetia Historic District, 752 Revere St., Sacramento, 14000109

San Mateo County

Pilarcitos Creek Bridge, (Highway Bridges of California MPS) Main St. across Pilarcitos Cr., Half Moon Bay, 14000110

ILLINOIS

St. Clair County

Town of West Belleville Historic District, Roughly bounded by 16th, W. E & S. 9th Sts., Illinois Central Gulf RR, Richland Cr., Belleville, 14000111

IOWA

Johnson County

Bowery Street Grocery Store, 518 E. Bowery St., Iowa City, 14000112

Polk County

Des Moines Fire Department Headquarters—Fire Station No. 1 and Shop Building, 900 Mulberry St., 100 9th St., Des Moines, 14000113

KANSAS

Decatur County

Norcatur City Hall, (New Deal-Era Resources of Kansas MPS) 107 N. Decatur Ave., Norcatur, 14000114

Dickinson County

Birchmore, John W., House, 1204 N. Buckeye Ave., Abilene, 14000116

Doniphan County

Minier, Abram M., House, (Highland, Doniphan County, Kansas MPS) 307 South Ave., Highland, 14000115

Johnson County

Lone Elm Campground Swale, (Santa Fe Trail MPS) 21151 W. 167th St., Olathe, 14000121

Lincoln County

Sylvan Grove Union Pacific Depot, (Railroad Resources of Kansas MPS) 131 S. Main St., Sylvan Grove, 14000118

Neosho County

Truitt, James and Ella, House, 305 N. Steuben Ave., Chanute, 14000117

Rice County

Little Arkansas River Crossing, (Santa Fe Trail MPS) NE. of jct. Ave. P & 30th Rd., Windom, 14000122

Rush County

Sand Creek Tributary Stone Arch Bridge, (Masonry Arch Bridges of Kansas TR) 2 mi. W, 1.4 mi. N. of La Crosse, La Crosse, 14000120

Washington County

Lowe Center School—District 115, (Public Schools of Kansas MPS) SW. corner Indian & 27th Rds., Morrowville, 14000119

MICHIGAN

Delta County

Escanaba Central Historic District, Roughly 200-1800 blks. Ludington St., Escanaba, 14000123

Ingham County

Genesee Street School, 835 W. Genesee St., Lansing, 14000124

Kalamazoo County

Sparks—Anderson House, 7653 W. Main St., Oshtemo Township, 14000125

Shiawassee County

Owosso Downtown Historic District, Roughly bounded by Shiawassee R., Comstock, Water, Park and Mason Sts., Owosso, 14000126

NEW YORK

Franklin County

Northbrook Lodge, 58 Northbrook Rd., Paul Smiths, 14000127

Onondaga County

Odd Fellows Lodge and Temple, 212 Ash St., 823 N. Townsend St., Syracuse, 14000128

Orange County

New York, Ontario & Western Railway Company Middletown Station, 2 Low Ave., Middletown, 14000129

Rensselaer County

Howard—Odmin—Sherman Farmstead, 393 Croll Rd., Pittstown, 14000130

Rockland County

Shadowcliff, 521 N. Broadway, Upper Nyack, 14000131

Saratoga County

Jonesville Cemetery, Ushers & Longkill Rds., Jonesville, 14000132

VERMONT

Rutland County

Watkins School, 26 Watkins Ave., Rutland, 14000133

WYOMING

Lincoln County

La Barge Bluffs Petroglyphs, Address Restricted, La Barge, 14000134

[FR Doc. 2014-06185 Filed 3-20-14; 8:45 am]

BILLING CODE 4312-51-P